DEPARTMENT OF ENERGY

Federal Energy Regulatory Commission

Combined Notice of Filings

Take notice that the Commission has received the following Natural Gas Pipeline Rate and Refund Report filings:

Filings Instituting Proceedings

Docket Numbers: RP15-167-000.

Applicants: High Island Offshore System, L.L.C.

Description: Compliance filing per 154.203: Capacity Release Update #2 to be effective 12/12/2014.

Filed Date: 11/12/14.

Accession Number: 20141112-5138.

Comments Due: 5 p.m. ET 11/24/14.

Docket Numbers: RP15-168-000.

Applicants: Portland General Electric Company.

Description: Compliance filing per 154.203: Show Cause Filing Section 20 to be effective 10/16/2014.

Filed Date: 11/12/14.

Accession Number: 20141112-5196.

Comments Due: 5 p.m. ET 11/24/14.

Docket Numbers: RP15-169-000.

Applicants: Gulf South Pipeline Company, LP.

Description: § 4(d) rate filing per 154.204: Neg Rate Agmt Filing (Southwest 43412) to be effective 11/13/2014.

Filed Date: 11/13/14.

Accession Number: 20141113-5026.

Comments Due: 5 p.m. ET 11/25/14.

Docket Numbers: RP15-170-000.

Applicants: Texas Gas Transmission, LLC.

Description: § 4(d) rate filing per 154.204: Amendment to Neg Rate Agmt (TVA 31033) to be effective 11/14/2014.

Filed Date: 11/13/14.

Accession Number: 20141113-5027.

Comments Due: 5 p.m. ET 11/25/14.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

Filings in Existing Proceedings

Docket Numbers: RP14-868-001.

Applicants: Southern Star Central Gas Pipeline, Inc.

Description: Compliance filing per 154.203: Show Cause Order Compliance Filing—Response to October 16, 2014 Order to be effective 10/16/2014.

Filed Date: 11/12/14.

Accession Number: 20141112-5133.

Comments Due: 5 p.m. ET 11/24/14.

Docket Numbers: RP14-873-001.

Applicants: Panhandle Eastern Pipe Line Company, LP.

Description: Compliance filing per 154.203: Compliance with RP14-873 Order on Show Cause Filings to be effective 10/16/2014.

Filed Date: 11/12/14.

Accession Number: 20141112-5199.

Comments Due: 5 p.m. ET 11/24/14.

Docket Numbers: RP14-874-001.

Applicants: Trunkline Gas Company, LLC.

Description: Compliance filing per 154.203: Compliance with RP14-874 Order on Show Cause Filings to be effective 10/16/2014.

Filed Date: 11/12/14.

Accession Number: 20141112-5198.

Comments Due: 5 p.m. ET 11/24/14.

Docket Numbers: RP14-913-001.

Applicants: Southwest Gas Storage Company.

Description: Compliance filing per 154.203: Compliance with RP14-913 Order on Show Cause Filings to be effective 10/16/2014.

Filed Date: 11/12/14.

Accession Number: 20141112-5200.

Comments Due: 5 p.m. ET 11/24/14.

Docket Numbers: RP14-914-001.

Applicants: Sea Robin Pipeline Company, LLC.

Description: Compliance filing per 154.203: Compliance with RP14-914 Order on Show Cause Filings to be effective 10/16/2014.

Filed Date: 11/12/14.

Accession Number: 20141112-5201.

Comments Due: 5 p.m. ET 11/24/14.

Docket Numbers: RP14-924-001.

Applicants: Cheyenne Plains Gas Pipeline Company, L.

Description: Compliance filing per 154.203: Second Show Cause Compliance Filing to be effective 10/16/2014.

Filed Date: 11/12/14.

Accession Number: 20141112-5444.

Comments Due: 5 p.m. ET 11/24/14.

Docket Numbers: RP14-925-001.

Applicants: Ruby Pipeline, L.L.C.

Description: Compliance filing per 154.203: Second Show Cause Compliance Filing to be effective 10/16/2014.

Filed Date: 11/12/14.

Accession Number: 20141112-5437.

Comments Due: 5 p.m. ET 11/24/14.

Docket Numbers: RP14-926-001.

Applicants: Colorado Interstate Gas Company, L.L.C.

Description: Compliance filing per 154.203: Second Show Cause Compliance Filing to be effective 10/16/2014.

Filed Date: 11/12/14.

Accession Number: 20141112-5445.

Comments Due: 5 p.m. ET 11/24/14.

Docket Numbers: RP14-927-001.

Applicants: Wyoming Interstate Company, L.L.C.

Description: Compliance filing per 154.203: Second Show Cause Compliance Filing to be effective 10/16/2014.

Filed Date: 11/12/14.

Accession Number: 20141112-5432.

Comments Due: 5 p.m. ET 11/24/14.

Docket Numbers: RP14-928-001.

Applicants: Young Gas Storage Company, Ltd.

Description: Compliance filing per 154.203: Second Show Cause Compliance Filing to be effective 10/16/2014.

Filed Date: 11/12/14.

Accession Number: 20141112-5427.

Comments Due: 5 p.m. ET 11/24/14.

Docket Numbers: RP14-962-001.

Applicants: Pine Needle LNG Company, LLC.

Description: Compliance filing per 154.203: Compliance Filing—GT&C Section 20—Posting of Offers to Purchase_2nd Filing to be effective 10/16/2014.

Filed Date: 11/12/14.

Accession Number: 20141112-5191.

Comments Due: 5 p.m. ET 11/24/14.

Docket Numbers: RP14-963-001.

Applicants: Transcontinental Gas Pipe Line Company.

Description: Compliance filing per 154.203: Compliance Filing—GT&C Section 42—Posting of Offers to Purchase_2nd Filing to be effective 10/16/2014.

Filed Date: 11/12/14.

Accession Number: 20141112-5190.

Comments Due: 5 p.m. ET 11/24/14.

Docket Numbers: RP14-984-001.

Applicants: El Paso Natural Gas Company, L.L.C.

Description: Compliance filing per 154.203: Second Show Cause Order Compliance Filing to be effective 10/16/2014.

Filed Date: 11/12/14.

Accession Number: 20141112-5377.

Comments Due: 5 p.m. ET 11/24/14.

Docket Numbers: RP14-985-001.

Applicants: Mojave Pipeline Company, L.L.C.

Description: Compliance filing per 154.203: Second Show Cause Compliance Filing to be effective 10/16/2014.

Filed Date: 11/12/14.

Accession Number: 20141112-5438.

Comments Due: 5 p.m. ET 11/24/14.

Docket Numbers: RP14-986-001.

Applicants: TransColorado Gas Transmission Company L.

Description: Compliance filing per 154.203: Second Show Cause Compliance Filing to be effective 10/16/2014.

Filed Date: 11/12/14.

Accession Number: 20141112-5379.

Comments Due: 5 p.m. ET 11/24/14.

Docket Numbers: RP14-989-001.

Applicants: Millennium Pipeline Company, LLC.

Description: Compliance filing per 154.203: Show Cause Compliance Filing to be effective 10/16/2014.

Filed Date: 11/12/14.

Accession Number: 20141112-5144.

Comments Due: 5 p.m. ET 11/24/14.

Any person desiring to protest in any of the above proceedings must file in accordance with Rule 211 of the Commission's Regulations (18 CFR 385.211) on or before 5:00 p.m. Eastern Time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated November 13, 2014.
Nathaniel J. Davis, Sr.,
Deputy Secretary.

[FR Doc. 2014-27823 Filed 11-24-14; 8:45 am]

BILLING CODE 6717-01-P